DEPARTMENT OF STATE

[Public Notice 7546]

Suggestions for Environmental Cooperation Pursuant to the United States-Chile Environmental Cooperation Agreement

ACTION: Notice of preparation of the 2012-2014 U.S.-Chile Environmental Cooperation Work Program and request for comments.

SUMMARY: The Department invites the public, including NGOs, educational institutions, private sector enterprises and other interested persons, to submit written comments or suggestions regarding items for inclusion in a new work program for implementing the U.S.-Chile Environmental Cooperation Agreement, which was signed on June 17, 2003. We encourage submitters to refer to: (1) The U.S.-Chile Environmental Cooperation Agreement; (2) the U.S.-Chile 2009-2011 Work Program for Environmental Cooperation; (3) Chapter 19 (Environment) of the U.S.-Chile Free Trade Agreement; and (4) the Environmental Review of the U.S.-Chile Free Trade Agreement. These documents are available at http://www.state.gov/e/oes/env/trade/chile/index.htm.

DATES: To be assured of timely consideration, all written comments or suggestions are requested no later than March 23, 2012.

ADDRESSES: Written comments or suggestions should be emailed (SlocumRB@state.gov) or faxed ((202) 647-5947) to Rebecca Slocum, Office of Environmental Policy, Bureau of Oceans and International Environmental and Scientific Affairs, U.S. Department of State, with the subject line “U.S.-Chile Environmental Cooperation Work Program.” If you have access to the Internet you can view and comment on this notice by going to: http://www.regulations.gov/#!home.

FOR FURTHER INFORMATION CONTACT: Rebecca Slocum, telephone (202) 647-4828.

SUPPLEMENTARY INFORMATION: The United States and Chile established the U.S.-Chile Joint Commission for Environmental Cooperation (the Commission) when they signed the U.S.-Chile Environmental Cooperation Agreement (ECA) on June 17, 2003, negotiated in concert with the U.S.-Chile Free Trade Agreement (FTA). The Commission is to meet every two years to advance environmental cooperation and review progress in implementing the ECA. The Commission also is responsible for establishing and developing programs of work that reflect national priorities for cooperative environmental activities.

The Commission last met January 20, 2010 in Washington, DC. During the meeting, the United States and Chile signed the 2009-2011 Work Program, which built on successes from previous work programs and laid out a roadmap for environmental cooperation to achieve the long-term goals of: (1) Strengthening effective implementation and enforcement of environmental laws and regulations; (2) encouraging development and adoption of sound environmental practices and technologies, particularly in business enterprises; (3) promoting sustainable development and management of environmental resources, including wild fauna and flora, protected wild areas, and other ecologically important ecosystems; and (4) encouraging civil society participation in the environmental decision-making process and environmental education.

For the 2012-2014 Work Program, we anticipate building upon cooperative work initiated under previous work programs. We are requesting suggestions that may be considered for inclusion in the next Work Program.

For additional information: http://www.state.gov/e/oes/env/trade/chile/index.htm.

Disclaimer: This Public Notice is a request for comments and suggestions, and is not a request for applications. No granting of money is directly associated with this request for suggestions for the Work Program. There is no expectation of resources or funding associated with any comments or suggestions for the Work Program.

Dated: February 24, 2012.
George Sibley,
Director, Office of Environmental Policy, Department of State.

[FR Doc. 2012-5121 Filed 3-1-12; 8:45 am]

BILLING CODE 4710-09-P